DEPARTMENT OF COMMERCE

National Oceanic and Atmospheric Administration

Agency Information Collection Activities; Submission to the Office of Management and Budget (OMB) for Review and Approval; Comment Request; Sea Grant Program Application Requirements for Grants, for Sea Grant Fellowships, Including the Dean John A. Knauss Marine Policy Fellowships, and for Designation as a Sea Grant College or Sea Grant Institution

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on December 13, 2023, during a 60-day comment period. This notice allows for an additional 30 days for public comments.

Agency: National Oceanic and Atmospheric Administration (NOAA), Commerce.

Title: Sea Grant Program Application Requirements for Grants, for Sea Grant Fellowships, including the Dean John A. Knauss Marine Policy Fellowships, and for Designation as a Sea Grant College or Sea Grant Institution.

OMB Control Number: 0648-0362.

Form Number(s): NOAA Forms 90-1, 90-2, and 90-4.

Type of Request: Regular submission [extension of a current information collection].

Number of Respondents: 680.

Average Hours per Response: 30 minutes for a Sea Grant Control form; 20 minutes for a Project Record Form; 15 minutes for a Sea Grant Budget form; and 20 hours for an application for designation as a Sea Grant college or Sea Grant institute.

Total Annual Burden Hours: 1,091.

Needs and Uses: This is a request for extension of an existing information collection.

The objectives of the National Sea Grant College Program, as stated in the Sea Grant legislation (33 U.S.C. 1121 et seq.) are to increase the understanding, assessments, development, utilization, and conservation of the Nation's ocean, coastal, and Great Lakes resources. It accomplishes these objectives by conducting research, education, and outreach programs. Grant monies are available for funding activities that help obtain the objectives of the Sea Grant Program. Both single and multi-project grants are awarded, with the latter representing approximately 80 percent of the total grant program. In addition to other standard grant application requirements, three forms are required with the grants. The Sea Grant Control Form (NOAA Form 90-1) is used to identify the organizations and personnel who would be involved in the grant and briefly summarize the proposed activities under the grant. The Project Record Form (NOAA Form 90-2), which collects summary data on projects, helps the National Sea Grant Office (NSGO) evaluate the proposals during its funding decisions. The Sea Grant Budget Form (NOAA Form 90-4) provides information similar to, but more detailed than, standardized budget forms SF-424A or SF-424C, and allows the NSGO to determine whether or not the breakdown cost of multi-project grant awards is reasonable. Collectively, the data supplied in these documents form the basis for many of NSGO's responses to the Administration, the Congress, other agencies, and to the public about the scope of Sea Grant activities.

The National Sea Grant College Program Act (33 U.S.C. 1126) also provides for the designation of a public or private institution of higher education, institute, laboratory, or State or local agency as a Sea Grant college or Sea Grant institute. Applications are required for designation of Sea Grant Colleges and Sea Grant Institutes, although no forms are required. The data the collection provides helps the National Sea Grant Office determine the suitability of the applicant for meeting the standards and conditions for being a Sea Grant College as set forth in 33 U.S.C. 1126 and 15 CFR 918.5.

Affected Public: Academic and not-for-profit institutions; individuals or households; business or other for-profit organizations; State, local, or Tribal government.

Frequency: On occasion.

Respondent's Obligation: Required to Obtain or Retain Benefits.

Legal Authority: 33 U.S.C. 1121 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0362.

Sheleen Dumas,
Department PRA Clearance Officer, Office of the Under Secretary for Economic Affairs, Commerce Department.

[FR Doc. 2024-05003 Filed 3-7-24; 8:45 am]

BILLING CODE 3510-KA-P